FEDERAL COMMUNICATIONS COMMISSION

47 CFR Part 73

[DA 00-300; MM Docket No. 99-190; RM-9631; RM-9689]

Radio Broadcasting Services; Colony and Weatherford, OK

AGENCY: Federal Communications Commission.

ACTION: Final rule.

SUMMARY: The Commission dismisses the request of Suelou, Inc. to allot Channel 286A to Colony, OK, for: (1) Failure to file comments expressing a continuing interest in the allotment; and (2) provide the requested information to support a finding that it is a community for allotment purposes. See 64 FR 29977, June 4, 1999. The Commission grants the mutually exclusive proposal of Fred R. Morton, Jr. to allot Channel 286A to Weatherford, OK, as the community's second local commercial FM service. Channel 286A can be allotted to Weatherford in compliance with the Commission's minimum distance separation requirements with a site restriction of 3.2 kilometers (2.0 miles) northwest, at coordinates 35-33-02 NL; 98-43-59 WL. A filing window for Channel 286A at Weatherford will not be opened at this time. Instead, the issue of opening a filing window for this channel will be addressed by the Commission in a subsequent order.

DATE: Effective April 3, 2000.

FOR FURTHER INFORMATION CONTACT: Leslie K. Shapiro, Mass Media Bureau, (202) 418-2180.

SUPPLEMENTARY INFORMATION: This is a synopsis of the Commission's Report and Order, MM Docket No. 99-190, adopted February 9, 2000, and released February 18, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of Title 47 of the Code of Federal Regulations is amended as follows:

PART 73—[AMENDED]

1. The authority citation for Part 73 continues to read as follows:

Authority: 47 U.S.C. 154, 303, 334, 336.

§ 73.202 [Amended]

2. Section 73.202(b), the Table of FM Allotments under Oklahoma, is amended by adding Channel 286A at Weatherford.

Federal Communications Commission.
John A. Karousos,
Chief, Allocations Branch, Policy and Rules Division, Mass Media Bureau.

[FR Doc. 00-5098 Filed 3-2-00; 8:45 am]

BILLING CODE 6712-01-P